DEPARTMENT OF TRANSPORTATION

Office of the Secretary

Application Of Gem Air, LLC for Commuter Air Carrier Authority

AGENCY: Department of Transportation.

ACTION: Notice of Order to Show Cause (Order 2014-10-25); Docket DOT-OST-2014-0020.

SUMMARY: The Department of Transportation is directing all interested persons to show cause why it should not issue an order finding Gem Air, LLC fit, willing, and able, and awarding it commuter air carrier authority to conduct scheduled commuter service.

DATES: Persons wishing to file objections should do so no later than November 13, 2014.

ADDRESSES: Objections and answers to objections should be filed in Docket DOT-OST-2014-0020 and addressed to Docket Operations, (M-30, Room W12-140), U.S. Department of Transportation, 1200 New Jersey Avenue SE., Washington, DC 20590, and should be served upon the parties listed in Attachment A to the order.

FOR FURTHER INFORMATION CONTACT: Barbara Snoden, Air Carrier Fitness Division (X-56, Room W86-9721), U.S. Department of Transportation, 1200 New Jersey Avenue SE., Washington, DC 20590, (202) 366-4834.

Susan L. Kurland,
Assistant Secretary, for Aviation and International Affairs.

[FR Doc. 2014-26186 Filed 11-3-14; 8:45 am]

BILLING CODE P